ENVIRONMENTAL PROTECTION AGENCY

[ER-FRL-6696-2]

Environmental Impacts Statements; Notice of Availability

Responsible Agency: Office of Federal Activities, General Information (202) 564-7167 or http://www.epa.gov/compliance/neap/. Weekly receipt of Environmental Impact Statements Filed 02/11/2008 Through 02/15/2008 Pursuant to 40 CFR 1506.9.

EIS No. 20080057, Draft EIS, AFS, MT, Young Doge Project, Proposed Timber Harvest and Associate Activities, Prescribed Burning, Road and Recreation Management, Kootenai National Forest, Rexford Ranger District, Lincoln County, MT, Comment Period Ends: 04/07/2008, Contact: Pat Price 406-296-2536.

EIS No. 20080058, Final EIS, BOP, AL, Aliceville, Alabama Area, Proposed Federal Correctional Complex, To Address the Growing Federal Inmate Population, Pickens County, AL, Wait Period Ends: 03/24/2008, Contact: Pamela J. Chandler 202-514-6470.

EIS No. 20080059, Draft EIS, AFS, UT, Uinta National Forest Oil and Gas Leasing, Implementation, Identify National Forest Systems Land with Federal Mineral Rights, Wasatch, Utah, Juab, Tooele, and Sanpete Counties, UT, Comment Period Ends: 05/22/2008, Contact: Kim Martin 801-342-5100.

EIS No. 20080060, Draft EIS, AFS, SD, Upper Spring Creek Project, Proposes to Implement Multiple Resource Management Actions, Mystic Ranger District, Black Hills National Forest, Pennington County, SD, Comment Period Ends: 04/07/2008, Contact: Katie Van Alstyne 605-343-1567.

EIS No. 20080061, Final EIS, AFS, OR, Thorn Fire Salvage Recovery Project, Salvaging Dead and Dying Timber, Shake Table Fire Complex, Malheur National Forest, Grant County, OR, Wait Period Ends: 03/24/2008, Contact: Carole Holly 541-575-5300.

EIS No. 20080062, Final EIS, USA, 00, Permanent Home Stationing of the 2/25th Stryker Brigade Combat Team (SBCT), To Address a Full Range of Alternatives for Permanently Stationing the 2/25th SBCT, Hawaii and Honolulu Counties, HI; Anchorage and Southeast Fairbanks Boroughs, AK; El Paso, Pueblo, and Fremont Counties, CO, Wait Period Ends: 03/24/2008, Contact: Michael Ackerman 410-436-2522.

EIS No. 20080063, Draft Supplement, USN, HI, Hawaii Range Complex (HRC) Project, Additional Information, To Support and Maintain Navy Pacific Fleet Training, and Research, Development, Test, and Evaluation (RDT&E) Operations, Kauai, Honolulu, Maui and Hawaii Counties, HI, Comment Period Ends: 04/07/2008, Contact: Tom Clements 866-767-3347.

EIS No. 20080064, Final EIS, BIA, NY, Oneida Nation of New York Conveyance of Lands into Trust, Proposes to Transfer 17,370 Acre of Fee Land into Federal Trust Status, Oneida, Madison and New York Counties, NY , Wait Period Ends: 03/24/2008, Contact: Kurt G. Chandler 615-564-6832.

Amended Notices

EIS No. 20080021, Draft EIS, SFW, AK, Yukon Flats National Wildlife Refuge Project, Proposed Federal and Public Land Exchange, Right-of-Way Grant, Anchorage, AK, Comment Period Ends: 03/25/2008, Contact: Cyndie Wolfe 907-786-3463.

Revision of FR Notice Published 01/25/2008: Extending Comment Period from 03/11/2008 to 03/25/2008.

EIS No. 20080051, Final EIS, AFS, MT, Beaverhead-Deerlodge National Forest Draft Revised Land and Resource Management Plan, Implementation, Beaverhead, Butte-Silver Bow, Deerlodge, Granite, Jefferson, Madison Counties, MT, Comment Period Ends: 03/31/2008, Contact: Leaf Magnuson 406-683-3950.

Revision to FR Notice Published 02/15/2008: Change the Wait Period Ends from 03/17/2008 to Comment Period Ends 03/31/2008.

Dated: February 19, 2008.
Ken Mittelholtz,
Environmental Protection Specialist, Office of Federal Activities.

[FR Doc. E8-3423 Filed 2-21-08; 8:45 am]

BILLING CODE 6560-50-P